DEPARTMENT OF JUSTICE

Notice of Lodging of Consent Decree Under the Clean Air Act

Consistent with 28 CFR 50.7, notice is hereby given that on May 17, 2002, proposed consent decrees (“Consent Decrees” in United States v. Catalina Furniture Co., Inc., and Capital Cabinet Corporation, Civil Action No. CIV-02-03974 (GHK)(RZx) were lodged with the United States District Court for the Central District of California.

The Consent Decrees resolve claims that the United States asserted against Catalina and Capital in a civil complaint filed concurrently with the lodging of the Consent Decrees. The complaint alleges violations of the Clean Air Act at a facility located in La Mirada, California owned by Capital and operated by Catalina. Catalina operated a wood furniture manufacturing facility. Catalina leased the facility along with four spray booths from Capital. Capital transferred its permits for the spray booths to Catalina. Catalina installed an additional eleven spray booths. The complaint alleges that Catalina failed to obtain permits to construct or operate the spray booths; that Catalina failed to install equipment to meet the Lowest Achievable Emissions Rate; that Catalina failed to obtain emission reduction credits; that Capital allowed the operation of its spray booths without obtaining permits or installing necessary control equipment; and that Capital illegally attempted to transfer its permits, all in violation of the Clean Air Act and the State Implementation Plan. Catalina has ceased operations at the facility and its assets have been sold.

The Consent Decrees requires Catalina to pay a civil penalty of $50,000, plus interest and Capital to pay a civil penalty of $30,000 plus interest. Capital must surrender its permits for the four spray booths and relinquish any right to emission reduction credits. Catalina agrees not to re-commence operations at the La Mirada facility. Catalina also agrees that if it begins operations of coating equipment in the South Coast Air Basin in California it will obtain permits and limit emissions by using ultra-low VOC content coatings.

The Department of Justice will receive for a period of thirty (30) days from the date of this publication comments relating to the Consent Decrees. Comments should be addressed to the Assistant Attorney General, Environment and Natural Resources Division, P.O. Box 7611, U.S. Department of Justice, Washington, DC 20044-7611, and should refer to United States v. Catalina Furniture Co., Inc. and Capital Cabinet Corporation, Civil Action No. CIV-02-03974 (GHK)(RZx) and D.J. Ref. 90-5-2-1-06468.

The Consent Decrees may be examined at the Office of the United States Attorney, Federal Building, Suite 7516, 300 North Los Angeles Street, Los Angeles, California 90015 or at EPA Region 9, 75 Hawthorne Street, San Francisco, California 94105. A copy of the Consent Decree may also be obtained by mail from the Consent Decree Library, P.O. Box 7611, U.S. Department of Justice, Washington, DC 20044-7611 or by faxing a request to Tonia Fleetwood, fax number (202) 514-0097, phone confirmation number (202) 514-1547. In requesting a copy, please enclose a check in the amount of $3.00 (for the Capital Decree) or $5.00 (for the Catalina Decree) (25 cents per page reproduction cost) payable to the U.S. Treasury.

Ellen M. Mahan,
Assistant Section Chief, Environmental Enforcement Section.

[FR Doc. 02-14401 Filed 6-7-02; 8:45 am]

BILLING CODE 4410-15-M